Title 3—

The President

Proclamation 9427 of April 27, 2016

National Physical Fitness and Sports Month, 2016

By the President of the United States of America

A Proclamation

For generations, sports have brought Americans of all ages together and helped us celebrate our country's competitive spirit. When we work to instill an appreciation for physical fitness in our people, we do more than honor an age-old tradition—we take a critical step toward ensuring the prospect of a long and healthy life. During National Physical Fitness and Sports Month, we highlight the importance of staying active, and we encourage all Americans to partake in physical activity to maintain their health and well-being.

Sports and other forms of physical activity inspire us—they bridge differences, unite Americans from every walk of life, and teach the importance of teamwork. Whether exploring the great outdoors or shooting hoops with friends, regular physical activity can also relieve stress, boost energy and self-esteem, and prevent numerous chronic diseases, including some of the leading causes of death, such as cancer, stroke, and heart disease. Children should engage in physical activity for at least 1 hour each day, and adults should do so for at least 30 minutes. Critical to enabling our youth to reach their fullest potential, regular exercise must go hand-in-hand with healthy eating and proper nutrition—because our children's well-being tomorrow depends on what they eat today.

This year, we celebrate six decades since President Dwight Eisenhower established the President's Council on Youth Fitness, known today as the President's Council on Fitness, Sports, and Nutrition. The Council partners with the public, private, and non-profit sectors to empower people to lead healthy and active lives. Through their I Can Do It, You Can Do It! program, the Council facilitates physical activity for individuals with disabilities and offers opportunities for regular exercise at sites across our country. My Administration's Go4Life campaign is motivating older Americans to recommit to making exercise a part of their daily lives. And First Lady Michelle Obama's Let's Move! initiative continues to inspire a rising generation to eat healthily and get plenty of physical activity so they can grow up strong and pursue their dreams. For more information on my Administration's actions to promote sports and physical fitness—and for ways you can get involved—visit www.Fitness.gov and www.LetsMove.gov.

Participation in sports and other physical activity represents our country's promise: the idea that if you work hard, commit to a goal, and never give up on yourself, there is nothing you cannot achieve. This month, let us each strive to make fitness a greater part of our lives, and let us join together as one American team to promote physical activity and chart a healthier, fitter future for our country.

NOW, THEREFORE, I, BARACK OBAMA, President of the United States of America, by virtue of the authority vested in me by the Constitution and the laws of the United States, do hereby proclaim May 2016 as National Physical Fitness and Sports Month. I call upon the people of the United States to make daily physical activity, sports participation, and good nutrition a priority in their lives.

IN WITNESS WHEREOF, I have hereunto set my hand this twenty-seventh day of April, in the year of our Lord two thousand sixteen, and of the Independence of the United States of America the two hundred and fortieth.

[FR Doc. 2016-10298

Filed 4-29-16; 8:45 am]

Billing code 3295-F6-P